DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: Atlanta, GA; Kansas City, MO; and San Bernardino, CA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before April 29, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Atlanta BeltLine, Atlanta, GA. Project sponsor: Metropolitan Atlanta Rapid Transit Authority (MARTA). Project description: The FTA and the MARTA have completed a Tier 1 Programmatic Final Environmental Impact Statement (PFEIS) of the Atlanta BeltLine. The Atlanta BeltLine is a proposed fixed guideway transit and multi-use trails system within a corridor of approximately 22 miles encircling central Atlanta. The proposed transit and trails elements are part of a comprehensive economic development effort combining greenspace, trails, transit, and new development along historic rail segments that, together, encircle central Atlanta. Collectively, these railroad corridors form a circuit that intersects existing MARTA rail corridors near six stations: Lindbergh Center, Inman Park/Reynoldstown, King Memorial, West End, Bankhead, and Ashby. The Tier 1 decisions included the selection of either Modern Streetcar or Light Rail Transit technology; selection of a general alignment of new transit and trails; and establishment of the right-of-way needs that were described and evaluated as the preferred alternative in the Atlanta BeltLine Tier 1 Programmatic Final Environmental Impact Statement/Section 4(f) Evaluation. When MARTA seeks FTA funding for any of the elements of the Atlanta BeltLine covered by the Tier 1 PFEIS, FTA and MARTA will perform a Tier 2 NEPA review to identify potential environmental impacts and develop appropriate mitigation measures in more detail. Final agency actions: Record of Decision (ROD) dated August 28, 2012. Supporting documentation: Programmatic Final Environmental Impact Statement dated April 2012.

2. Project name and location: Kansas City Downtown Streetcar Project, Kansas City, MO. Project sponsor: City of Kansas City. Project description: The project will construct an approximately two-mile streetcar system between Union Station at Pershing Road and Third Street and Grand Boulevard, in the River Market District. The project includes construction of streetcar stops approximately every two blocks and a new vehicle maintenance facility. Final agency actions: No use determination of Section 4(f) resources; Section 106 finding of no adverse effect; and Finding of No Significant Impact (FONSI) dated October 30, 2012. Supporting documentation: Environmental Assessment dated September 2012.

3. Project name and location: Downtown San Bernardino Passenger Rail Project, San Bernardino, CA. Project sponsor: San Bernardino Associated Governments (SANBAG). Project description: SANBAG is proposing to extend Metrolink regional passenger rail service approximately one mile east from its current terminus at the existing San Bernardino Metrolink Station/Santa Fe Depot (Depot) located at 1170 West 3rd Street to new Metrolink commuter rail platforms proposed near the intersection of Rialto Avenue and E Street in the City of San Bernardino. The primary features of the Downtown San Bernardino Passenger Rail Project include construction of a second track, rail platforms, parking lots, pedestrian overpass at the Depot, and an Omnitrans Bus Facility; grade crossing improvements; railroad signalizations; and roadway closures. Secondary features include construction of drainage improvements, utility accommodation, and implementation of safety controls. Final agency actions: No use determination of Section 4(f) resources; Section 106 finding of no adverse effect; project-level air quality conformity; and Finding of No Significant Impact (FONSI) dated October 26, 2012. Supporting documentation: Revised Environmental Assessment/Final Environmental Impact Report dated August 2012.

Issued on: November 27, 2012.
Lucy Garliauskas,
Associate Administrator for Planning and Environment, Washington, DC.

[FR Doc. 2012-28985 Filed 11-29-12; 8:45 am]

BILLING CODE P